DEPARTMENT OF COMMERCE

National Oceanic and Atmospheric Administration

[RTID 0648-XC217]

Pacific Fishery Management Council; Public Meeting

AGENCY: National Marine Fisheries Service (NMFS), National Oceanic and Atmospheric Administration (NOAA), Commerce.

ACTION: Notice of public meeting.

SUMMARY: The Pacific Fishery Management Council (Pacific Council) will hold an online informational meeting on the NMFS Environmental Justice Strategy.

DATES: The online meeting will be held Friday, August 19, 2022 at 11 a.m., Pacific Daylight Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: James Seger, Staff Officer, Pacific Council; telephone: (503) 820-2416.

SUPPLEMENTARY INFORMATION: NMFS is requesting comment on the NOAA Fisheries' Draft Equity and Environmental Justice Strategy. This webinar will provide information about that strategy and the process moving forward. Pacific Council Advisory Body members are encouraged to attend to receive information that will be useful when they begin considering recommendations to the Pacific Council, which is scheduled to review the strategy and provide comments to NMFS at the September Pacific Council meeting.

The meeting is informational and no issues discussed at this meeting will be the subject of formal action during this meeting.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: July 27, 2022.
Rey Israel Marquez,
Acting Deputy Director, Office of Sustainable Fisheries, National Marine Fisheries Service.

[FR Doc. 2022-16439 Filed 7-29-22; 8:45 am]

BILLING CODE 3510-22-P